DEPARTMENT OF AGRICULTURE

Animal and Plant Health Inspection Service

9 CFR Parts 2 and 3

[Docket No. 97-001-5]

RIN 0579-AB39

Animal Welfare; Policy on Training and Handling of Potentially Dangerous Animals

AGENCY: Animal and Plant Health Inspection Service, USDA.

ACTION: Draft policy statement; withdrawal.

SUMMARY: On February 18, 2000, we published a draft policy statement regarding the training and handling of potentially dangerous animals in the Federal Register in order to seek public comment on the policy statement prior to its implementation. The draft policy statement was developed to provide guidance to exhibitors and other regulated entities on how to comply with the regulations regarding training and handling of potentially dangerous animals (e.g., lions, tigers, bears, and elephants). This is to notify the public that we will not be publishing or implementing a final policy statement on these issues.

FOR FURTHER INFORMATION CONTACT: Dr. Barbara Kohn, Staff Veterinarian, Animal Care, APHIS, 4700 River Road Unit 84, Riverdale, MD 20737-1234; (301) 734-7833.

SUPPLEMENTARY INFORMATION:

Background

The Animal Welfare Act (AWA) (7 U.S.C. 2131 et seq.) authorizes the Secretary of Agriculture to promulgate regulations and standards governing the humane handling, care, treatment, and transportation of animals, as defined in the AWA, by dealers, exhibitors, and other regulated persons. The Secretary of Agriculture has delegated the responsibility for enforcing the AWA to the Administrator of the Animal and Plant Health Inspection Service (APHIS). Regulations and standards established under the AWA are contained in 9 CFR parts 1, 2, and 3.

The regulations governing the handling of all animals are found in 9 CFR part 2, § 2.131. Section 2.131, paragraph (a) requires that handling of all animals shall be done as expeditiously and carefully as possible in a manner that does not cause trauma, overheating, excessive cooling, behavioral stress, physical harm or unnecessary discomfort, and prohibits the use of physical abuse or deprivation of food or water to train, work or otherwise handle animals except that short-term withholding of food or water by exhibitors is allowed as long as each of the animals affected receives its full dietary and nutrition requirements each day.

Section 2.131, paragraph (b)(1) requires that during public exhibition, any animal must be handled so there is minimal risk of harm to the animal and the public, with sufficient distance and/or barriers between the animal and the general viewing public so as to assure the safety of the animals and the public. Paragraph (b)(2) requires that performing animals receive a rest period between performances. Paragraph (b)(3) prohibits exposing young or immature animals to rough or excessive public handling, or exhibiting them for periods of time that would be detrimental to their health or well-being. Paragraph (b)(4) prohibits the use of drugs to facilitate, allow, or provide for public handling of animals.

Section 2.131, paragraph (c) requires that: (1) Animals be exhibited only for periods of time and under conditions consistent with their good health and well-being, (2) a responsible, knowledgeable and readily identifiable employee or attendant be present at all times during public contact, (3) during public exhibition, dangerous animals be under the direct control and supervision of a knowledgeable and experienced animal handler, and (4) if public feeding of animals is allowed, the food be provided by the animal facility and appropriate for the animal and its needs and diet.

Section 2.131, paragraph (d) prohibits subjecting animals to any combination of temperature, humidity and time that is detrimental to their health or well-being.

Regulations governing handling and personnel qualifications for research facilities are found at 9 CFR part 2, §§ 2.38(f), 2.32. Handling and employee standards for specific animals are found at 9 CFR part 3, §§ 3.19, 3.12 (dogs and cats), §§ 3.41, 3.32 (hamsters and guinea pigs), §§ 3.66, 3.57 (rabbits), §§ 3.92, 3.85 (nonhuman primates), §§ 3.118, 3.108 (marine mammals), and §§ 3.142, 3.132 (animals other than dogs, cats, hamsters, guinea pigs, rabbits, nonhuman primates, and marine mammals).

On February 18, 2000, we published a draft policy statement in the Federal Register (65 FR 8318-8321, Docket No. 97-001-4) in order to seek public comment on the policy statement prior to its implementation. The draft policy statement was developed to provide guidance to exhibitors and other regulated persons on how to comply with the regulations regarding training and handling of potentially dangerous animals.

We solicited comments concerning our draft policy statement for 60 days ending on April 18, 2000. We received 204 comments by that date. They were from licensees, professional organizations, animal welfare organizations, zoos, academicians, consultants, and private citizens.

We have determined that any clarification of the regulations should be accomplished through rulemaking and we are now providing notice that we will not be publishing or implementing a final policy statement on these issues. Should we propose to amend the regulations and standards, we will initiate rulemaking and provide notice and opportunity for public comment.

Done in Washington, DC, this 25th day of May, 2004.
Jessica Mahalingappa,
Acting Administrator, Animal and Plant Health Inspection Service.

[FR Doc. 04-12135 Filed 5-27-04; 8:45 am]

BILLING CODE 3410-34-P